COMMODITY FUTURES TRADING COMMISSION

17 CFR Part 4

RIN 3038-AC46

Commodity Pool Operations: Relief From Compliance With Certain Disclosure, Reporting and Recordkeeping Requirements for Registered CPOs of Commodity Pools Listed for Trading on a National Securities Exchange; CPO Registration Exemption for Certain Independent Directors or Trustees of These Commodity Pools; Correction

AGENCY: Commodity Futures Trading Commission.

ACTION: Notice of proposed rulemaking; correction.

SUMMARY: This document corrects a missing e-mail address in a proposed rule published in the Federal Register of September 9, 2010, regarding relief from certain disclosure, reporting and recordkeeping requirements that Commission staff previously has issued on a case-by-case basis to commodity pool operators (CPOs).

FOR FURTHER INFORMATION CONTACT: David A. Stawick, 202-418-5071.

Correction

In proposed rule FR Doc. 2010-22395, beginning on page 54794 in the issue of September 9, 2010, make the following correction. In the ADDRESSES section, add the e-mail address etfcpoexemptcomment@cftc.gov in the place of “[email address TBD]”.

Dated: September 9, 2010.
David A. Stawick,
Secretary of the Commission.

[FR Doc. 2010-22906 Filed 9-13-10; 8:45 am]

BILLING CODE P